DEPARTMENT OF TRANSPORTATION

Federal Aviation Administration

14 CFR Part 39

[Docket No. FAA-2021-0688; Project Identifier 2019-SW-025-AD]

RIN 2120-AA64

Airworthiness Directives; Hélicoptères Guimbal Helicopters

AGENCY: Federal Aviation Administration (FAA), DOT.

ACTION: Notice of proposed rulemaking (NPRM).

SUMMARY: The FAA proposes to adopt a new airworthiness directive (AD) for Hélicoptères Guimbal (HG) Model Cabri G2 helicopters. This proposed AD was prompted by the determination that certain parts need life limits and certification maintenance requirement (CMR) tasks. This proposed AD would require establishing life limits and CMR tasks for various parts and removing any parts from service that have reached or exceeded their life limits. Depending on the results of the CMR tasks, this proposed AD would require corrective action. The FAA is proposing this AD to address the unsafe condition on these products.

DATES: The FAA must receive comments on this proposed AD by October 7, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Hélicoptères Guimbal, Basile Ginel, 1070, rue du Lieutenant Parayre, Aérodrome d'Aix-en-Provence, 13290 Les Milles, France; telephone 33-04-42-39-10-88; email basile.ginel@guimbal.com; web https://www.guimbal.com. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0688; or in person at Docket Operations between 9 a.m. and 5 p.m., Monday through Friday, except Federal holidays. The AD docket contains this NPRM, the European Aviation Safety Agency (now European Union Aviation Safety Agency (EASA) AD, any comments received, and other information. The street address for Docket Operations is listed above.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2021-0688; Project Identifier 2019-SW-025-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives which is not specifically designated as CBI will be placed in the public docket for this rulemaking.

Background

EASA, which is the Technical Agent for the Member States of the European Union, issued EASA AD 2016-0032, dated February 24, 2016 (EASA AD 2016-0032), to correct an unsafe condition for HG Model Cabri G2 helicopters. EASA AD 2016-0032 states HG has revised the airworthiness limitations and maintenance tasks specified in the existing maintenance manual. EASA further advised the revisions include new and more restrictive applicable life limits and compliance times for applicable tasks. Accordingly, EASA 2016-0032 required replacing each affected part before exceeding its life limit, accomplishing all applicable maintenance tasks within the defined intervals as described in revised maintenance manual and if discrepancies were found accomplishing the corrective actions in accordance with the applicable maintenance instructions or contacting HG. EASA AD 2016-0032 also required revising the existing Aircraft Maintenance Program (AMP) for your helicopter by incorporating the actions specified in the revised maintenance. After EASA issued EASA AD 2016-0032, HG again revised the airworthiness limitations and maintenance tasks.

Accordingly, EASA superseded EASA AD 2016-0032 with EASA AD 2019-0025, dated February 4, 2019 (EASA AD 2019-0025). EASA advises new and more restrictive life limits have been established for cooling fan part number (P/N) G52-00-001, and P/N G52-00-002, which have been identified as mandatory for continued airworthiness in Hélicoptères Guimbal Cabri G2 Maintenance Manual (MM) and Instructions for Continued Airworthiness J70-002 Issue 06, Section C, Airworthiness Limitations, dated December 6, 2018 (MM J70-002 Issue 06). In addition to the new life limits, EASA further advises of new and more restrictive inspection intervals identified in MM J70-002-Issue 06 for cooling fan P/N G52-00-001 with a certain mounted cooling fan front flange P/N G52-02-200, or P/N G52-02-201. EASA further advises MM J70-002 Issue 06, revised the tail structure paint to include certain part-numbered tail booms and an additional figure. This condition, if not addressed, could result in parts remaining in service beyond their fatigue life and failure of a part, which could result in loss of control of the helicopter.

Accordingly, EASA AD 2019-0025 retains the requirements of EASA AD 2016-0032 and requires replacing each affected part before exceeding its life limit, accomplishing all applicable maintenance tasks within the defined intervals as described in MM J70-002 Issue 6, and if discrepancies are found accomplishing the corrective actions in accordance with the applicable maintenance instructions or contacting HG. EASA AD 2019-0025 also requires revising the tail structure paint scheme to include certain part-numbered tail booms and an additional figure. EASA AD 2019-0025 requires revising the existing AMP for your helicopter by incorporating the actions specified in MM J70-002 Issue 6.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other helicopters of the same type designs.

Related Service Information Under 1 CFR Part 51

The FAA reviewed Hélicoptères Guimbal Cabri G2 MM J70-002 Issue 06. This service information specifies airworthiness life limits, inspection intervals, and CMR requirements for parts installed on Cabri G2 helicopters. Issue 06 establishes life limits for certain part-numbered cooling fan front flanges, and engine pulley ball bearings and CMR requirements for certain cooling fan front flanges.

This service information is reasonably available because the interested parties have access to it through their normal course of business or by the means identified in the ADDRESSES section.

Proposed AD Requirements in This NPRM

This proposed AD would require, before further flight after the effective date of this AD, removing from service certain part-numbered cooling fan front flanges and engine pulley ball bearings that have accumulated or exceeded their life limit. This proposed AD would also require establishing recurring CMR tasks for certain part-numbered cooling fan front flanges. Depending on the results of the CMR tasks, this proposed AD would also require corrective action. Additionally, this proposed AD would require painting certain part-numbered tail booms with glossy white paint.

Differences Between This Proposed AD and EASA AD 2019-0025

EASA AD 2019-0025 requires contacting Hélicoptères Guimbal for corrective actions when a discrepancy is found, whereas this proposed AD would require removing the part from service. EASA AD 2019-0025 requires accomplishing the actions specified in MM J70-002 Issue 06, whereas this proposed AD would require establishing a life limit for certain part-numbered cooling fan front flanges and certain part-numbered engine pulley ball bearings and removing any part from service accordingly instead. EASA AD 2019-0025 requires revising the AMP with the actions specified in MM J70-002 Issue 06, whereas the proposed AD would not.

Costs of Compliance

The FAA estimates that this proposed AD would affect 32 helicopters of U.S. Registry. The FAA estimates that operators may incur the following costs in order to comply with this proposed AD. Labor costs are estimated at $85 per work-hour.

Replacing a cooling fan front flange would take about 16 work-hours and parts would cost about $4,500 for an estimated cost of $5,860 per helicopter and $187,520 for the U.S. fleet, per replacement cycle.

Replacing an engine pulley ball bearing would take about 12 work-hours and parts would cost about $250 for an estimated cost of $1,270 per helicopter and $40,640 for the U.S. fleet, per replacement cycle.

The FAA has no way of determining the estimated costs to do allowable repairs based on the results of the CMR tasks. If required, replacing a cracked cooling fan front flange would take about 16 work-hours and parts would cost about $4,500 for an estimated cost of $5,860.

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Hélicoptères Guimbal: Docket No. FAA-2021-0688; Project Identifier 2019-SW-025-AD.

(a) Comments Due Date

The FAA must receive comments on this airworthiness directive (AD) by October 7, 2021.

(b) Affected ADs

None.

(c) Applicability

This AD applies to Hélicoptères Guimbal (HG) Model Cabri G2 helicopters, certificated in any category.

(d) Subject

Joint Aircraft Service Component (JASC) Code: 7100, Powerplant System.

(e) Unsafe Condition

This AD was prompted by a notification of certain parts remaining in service beyond their fatigue life or beyond maintenance intervals required by the certification maintenance requirements (CMRs) of the Instructions for Continued Airworthiness. The FAA is issuing this AD to prevent failure of a part, which could result in loss of control of the helicopter.

(f) Compliance

Comply with this AD within the compliance times specified, unless already done.

(g) Required Actions

(1) Before further flight after the effective date of this AD, remove from service any part that has reached or exceeded its life limit, as specified in paragraphs (g)(1)(i) through (iii) of this AD, and thereafter remove from service any part on or before each part reaches its life limit:

(i) The life limit for cooling fan front flange part number (P/N) G52-02-200 mounted on pulley (12 screws) P/N G52-10-100 or G52-10-101; and cooling fan front flange P/N G52-02-201 mounted or having been mounted on pulley (12 screws) P/N G52-10-100 or G52-10-101, installed on cooling fan P/N G52-00-001 or G52-00-002; is 2,200 total hours time-in-service (TIS).

(ii) The life limit for cooling fan front flange P/N G52-02-201 mounted on pulley (24 screws) P/N G52-10-102 and having never been mounted on pulley (12 screws) P/N G52-10-100 or G52-10-101, installed on cooling fan P/N G52-00-001 or G52-00-002, is 4,400 total hours TIS.

(iii) The life limit for engine pulley ball bearing P/N HG61-0790 and HG61-1944, installed on engine pulley assembly P/N G51-14-1XX, is 2,200 total hours TIS.

(2) Perform the following CMR tasks as follows:

(i) Cooling fan front flange P/N G52-02-200 mounted on pulley (12 screws) P/N G52-10-100 or G52-10-101; and cooling fan front flange P/N G52-02-201 mounted or having been mounted on pulley (12 screws) P/N G52-10-100 or G52-10-101, installed on cooling fan P/N G52-00-001, and with 500 or more total hours TIS since new as of the effective date of this AD: Within 5 hours TIS after the effective date of this AD and thereafter at intervals not to exceed 50 hours TIS, or 70 engine start-stop cycles, whichever occurs first, inspect the cooling fan front flange for a crack in accordance with Hélicoptères Guimbal Cabri G2 Maintenance Manual (MM) and Instructions for Continued Airworthiness J70-002 Issue 06, Section C, Airworthiness Limitations, dated December 6, 2018 (MM J70-002 Issue 06), sub section 52-A-10 Cooling Fan Inspection, paragraphs (c) through (d). If any crack is found, before further flight, remove the cooling fan front flange from service.

(ii) Cooling fan front flange P/N G52-02-200 mounted on pulley (12 screws) P/N G52-10-100 or G52-10-101; and cooling fan front flange P/N G52-02-201 mounted or having been mounted on pulley (12 screws) P/N G52-10-100 or G52-10-101, installed on cooling fan P/N G52-00-001, and with less than 500 total hours TIS since new as of the effective date of this AD: Before accumulating 500 total hours TIS since new and thereafter at intervals not to exceed 50 hours TIS, or 70 engine start-stop cycles, whichever occurs first, inspect the cooling fan front flange for a crack in accordance with MM J70-002 Issue 06, sub section 52-A-10 Cooling Fan Inspection, paragraphs (c) through (d). If any crack is found, before further flight, remove the cooling fan front flange from service.

(iii) Cooling fan front flange P/N G52-02-201 mounted on pulley (24 screws) P/N G52-10-102 and having never been mounted on pulley (12 screws) P/N G52-10-100 or G52-10-101, installed on cooling fan P/N G52-00-002: Before accumulating 500 total hours TIS since new and thereafter at intervals not to exceed 100 hours TIS, inspect the cooling fan front flange for a crack in accordance with MM J70-002, Issue 06, sub section 52-A-10 Cooling Fan Inspection, paragraphs (c) through (d). If any crack is found, before further flight, remove the cooling fan front flange from service.

(iv) For helicopters with tail boom P/N G65-00-101, G65-00-102 or G65-00-103 and subsequent installed: Before further flight after the effective date of this AD, paint or verify the tail boom upper surface in accordance with MM J70-002, Issue 06, sub section C-23 Tail Structure Paint, as applicable to your helicopter.

(h) Credit for Previous Actions

This paragraph provides credit for the actions specified in paragraph (g)(2)(i), (ii) and (iii) of this AD, if those actions were performed before the effective date of this AD using Hélicoptères Guimbal Cabri G2 MM and Instructions for Continued Airworthiness J70-002 Issue 05.1, Section C, Airworthiness Limitations, dated October 30, 2015, sub section 52-A-10 Cooling Fan Inspection, paragraphs (c) through (d).

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j)(1) of this AD. Information may be emailed to: 9-AVS-AIR-730-AMOC@faa.gov.

(2) Before using any approved AMOC, notify your appropriate principal inspector, or lacking a principal inspector, the manager of the local flight standards district office/certificate holding district office.

(j) Related Information

(1) For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(2) For service information identified in this AD, contact Hélicoptères Guimbal, Basile Ginel, 1070, rue du Lieutenant Parayre, Aérodrome d'Aix-en-Provence, 13290 Les Milles, France; telephone 33-04-42-39-10-88; email basile.ginel@guimbal.com; web https://www.guimbal.com. You may view this referenced service information at the FAA, Office of the Regional Counsel, Southwest Region, 10101 Hillwood Pkwy., Room 6N-321, Fort Worth, TX 76177. For information on the availability of this material at the FAA, call (817) 222-5110.

(3) The subject of this AD is addressed in European Aviation Safety Agency (now European Union Aviation Safety Agency (EASA) AD 2019-0025, dated February 4, 2019. You may view the EASA AD on the internet at https://www.regulations.gov in Docket No. FAA-2021-0688.

Issued on August 16, 2021.
Gaetano A. Sciortino,
Deputy Director for Strategic Initiatives, Compliance & Airworthiness Division, Aircraft Certification Service.

[FR Doc. 2021-17944 Filed 8-20-21; 8:45 am]

BILLING CODE 4910-13-P